CORPORATION FOR NATIONAL AND COMMUNITY SERVICE

Submission for OMB Emergency Review; Comment Request

AGENCY: Corporation for National and Community Service.

ACTION: Notice.

SUMMARY: The Corporation for National and Community Service (hereinafter the “Corporation”), submitted the following information collection request (ICR), utilizing emergency review procedures, to the Office of Management and Budget (OMB) for review and clearance in accordance with the Paperwork Reduction Act of 1995, (Pub. L. 104-13, 44 U.S.C. Chapter 35). The Corporation has requested OMB to review and approve its emergency request for reinstatement, with change, of a previously approved collection for which approval has expired, by November 7, 2003. A copy of this ICR, with applicable supporting documentation, may be obtained by contacting the Corporation for National and Community Service, National Senior Service Corps, Attn: Ms. Angela Roberts, (202) 606-5000, Ext. 111, or by e-mail at Aroberts@cns.gov.

The Corporation requests that all public comments be sent to the Office of Information and Regulatory Affairs, Attn: Ms. Fumie Yokota, OMB Desk Officer for the Corporation for National and Community Service, Office of Management and Budget, Room 10235, Washington, DC, 20503, (202) 395-3147. Comments should be received by the OMB Desk Officer no later than November 3, 2003.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Emergency request for reinstatement, with change, of a previously approved collection for which approval has expired.

Agency: Corporation for National and Community Service.

Title: National Senior Services Corps Project Progress Report.

OMB Number: 3045-0033.

Agency Number: CNCS Form 1020.

Affected Public: Sponsors of National Senior Service Corps grants.

Total Respondents: 1,350.

Frequency: Semi-annual. It is estimated that 1,350 will respond semi-annually and 50 quarterly.

Average Time Per Response: 8.7 hours.

Estimated Total Burden Hours: 11,000 hours.

Total Burden Cost (capital/startup): None.

Total Burden Cost (operating/maintenance): $2,000.

The Corporation is soliciting comments concerning a revised version of its National Senior Service Corps Project Progress Report. The previously approved Progress Report (OMB Control Number 3045-0033) expired on August 31, 2003. This emergency request for reinstatement with changes reflects the Corporation's intention to modify selected sections of the collection instrument to reflect changes in data considered “ore reporting” information to meet a variety of needs, including:

• Removing data elements no longer required after January 2004; and

• Adding new data elements as needed to ensure information collection captures appropriate data for the Corporation's required performance measurement and other reporting.

Background

The Progress Report (PPR) was designed to assure that National Service Corps (NSSC) grantees address and fulfill legislated program purposes, meet agency program management and grant requirements, and assess progress toward work plan objectives agreed upon in the granting of the award.

Current Action

The Corporation seeks OMB approval to reinstate the previously used PPR to: (a) Enhance data elements collected via this information collection tool; (b) migrate the paper version of the form to the Corporation's electronic grants management system, eGrants; and (c) establish reporting periods consistent with the Corporation's integrated grants management and reporting policies.

The Corporation anticipates making available to all NSSC grantees an OMB approved revised PPR by April of 2004.

The revised PPR will be used by NSSC grantees to report progress toward accomplishing work plan goals and objectives, reporting actual outcomes related to self-nominated performance measures meeting challenges encountered, describing significant activities, and requesting technical assistance. Submission requirements are proposed to be revised as follows:

• Established multi-year NSSC grantees will submit the complete report semi-annually within 30 days of the end of their annual budget cycle.

• New projects in their first year, new components of statewide projects, demonstrations, and projects experiencing problems or with substantial project revisions may, upon review and recommendations of project managers, submit the PPR quarterly.

Dated: October 20, 2003.
Tess Scannell,
Director, National Senior Service Corps.

[FR Doc. 03-26952 Filed 10-24-03; 8:45 am]

BILLING CODE 6050-$$-P